DEPARTMENT OF AGRICULTURE

Rural Housing Service

Notice of Request for Extension of Currently Approved Information Collection

AGENCY: Rural Housing Service, USDA.

ACTION: Notice and request for comments.

SUMMARY: In accordance with the Paperwork Reduction Act of 1995, this notice announces the Rural Development's intention to request an extension for a currently approved information collection in support of the program, Environmental Policies and Procedures.

DATES: Comments on this notice must be received by April 12, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email Thomas.dickson@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that Rural Development is submitting to OMB for extension.

Comments are invited on: (a) Whether the collection of information is necessary for the proper performance of the functions of the agency, including whether the information will have practical utility; (b) the accuracy of the agency's estimate of the burden of the collection of information including the validity of the methodology and assumptions used; (c) ways to enhance the quality, utility and clarity of the information to be collected; and (d) ways to minimize the burden of the collection of information on respondents, including through the use of appropriate automated, electronic, mechanical, or other technological collection techniques or other forms of information technology. Comments may be sent to: Thomas P. Dickson, Rural Development Innovation Center—Regulatory Team 2, USDA, 1400 Independence Avenue SW, STOP 1522, Room 5164, South Building, Washington, DC 20250-1522. Telephone: (202) 690-4492. Email Thomas.dickson@usda.gov.

Title: Environmental Policies and Procedures.

OMB Number: 0575-0197.

Type of Request: Extension of currently approved information collection.

Abstract: The National Environmental Policy Act (NEPA) and other applicable environmental and historic preservation statutes require all Federal agencies to consider the potential environmental consequences of their actions on the quality of the human environment and historic properties before agency decisions are made and prior to it taking an action; in RD's case the “action” is the approval of financial assistance and obligation of Federal funds. To comply with NEPA and other environmental laws, regulations and Executive Orders, RD requires applicants submitting applications for financial assistance to include project-specific environmental information along with other underwriting requirements. The purpose of this information is to evaluate and document the environmental implications of applicant's proposals.

Estimate of Burden: Public reporting burden for this collection is estimated to average 60 hours per response.

Respondents: Cooperatives, local municipalities, private citizens, companies, not-for-profit companies.

Estimated Number of Respondents: 94,000.

Estimate Number of Responses per Respondent: 1.

Estimated Total Annual Burden on Respondents: 5,608,800 hours.

Copies of this information collections can be obtained from Diane M. Berger, Rural Development Innovation Center—Regulatory Team; phone—(715) 619-3124; or email diane.berger@usda.gov.

All responses to this notice will be summarized and included in the request for OMB approval. All comments will become a matter of public record.

Joel Baxley,
Administrator, Rural Housing Service.

[FR Doc. 2019-01829 Filed 2-8-19; 8:45 am]

BILLING CODE P